DEPARTMENT OF HEALTH AND HUMAN SERVICES

Health Resources and Services Administration

[OMB No. 0906-XXXX]

Agency Information Collection Activities: Proposed Collection: Public Comment Request Information Collection Request Title: COVID-19 Provider Relief Programs Application and Attestation Portal, and Claims Reimbursement Submission Activities

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 22, 2021.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: COVID-19 Provider Relief Programs Application and Attestation Portal, and Claims Reimbursement Submission Activities, OMB No. 0906-XXXX.

Abstract: HRSA administers the Provider Relief Programs (which includes the Provider Relief Fund (PRF), the American Rescue Plan Act Rural (ARPA-R) payments, the COVID-19 Coverage Assistance Fund (CAF), and the COVID-19 Claims Reimbursement to Health Care Providers and Facilities for Testing, Treatment, and Vaccine Administration for the Uninsured (Uninsured Program or UIP). The Provider Relief Programs disbursed, and are continuing to disburse, funds to eligible healthcare providers through two pathways: (1) Direct provider payments via the PRF and ARPA-R payments, and (2) claims reimbursement via the CAF and the UIP. This information collection includes four components: (1) The PRF and ARPA-R application portal; (2) the PRF and ARPA-R attestation portal; (3) the CAF application portal; and (4) the UIP application portal. To date, information for these programs has been collected under a Paperwork Reduction Act waiver executed pursuant to public health emergency authorities. HRSA is seeking comments regarding the CAF and the UIP for the first time. These information collections support administration of the Provider Relief Programs including the PRF, the Uninsured Program, and the CAF (funds for these three programs were appropriated under the Coronavirus Aid, Relief, and Economic Security Act (Pub. L. 116-136), Paycheck Protection Program and Health Care Enhancement Act (Pub. L. 116-139), Coronavirus Response and Relief Supplemental Appropriations Act (Division M of Pub. L. 116-260)), and the ARPA-R payments (funds were appropriated under the American Rescue Plan Act of 2021, Pub. L. 117-2).

Need and Proposed Use of the Information: Providers who apply for Provider Relief Programs (i.e., PRF, ARPA-R, CAF, and UIP payments) must apply for direct provider payments or claims reimbursement and attest to a set of Terms and Conditions to enable HRSA's appropriate disbursement and oversight of recipients' use of funds.

Information collected will allow for (1) assessing if recipients have met statutory and programmatic requirements; (2) conducting audits; (3) gathering data required to calculate, disburse, and report on PRF, ARPA-R, CAF, and UIP payments; and (4) program evaluation. HRSA staff may also use information collected to identify and report on trends in the effect of the COVID-19 pandemic on health care providers and uninsured or underinsured patients throughout the United States.

HHS makes publicly available the names of payment recipients and the aggregate amounts received, for all providers who attest to receipt of a payment and acceptance of the Terms and Conditions or who retain payments for more than 90 days and are deemed to have accepted the Terms and Conditions. By accepting funds, the recipient consents to HHS publicly disclosing the payments that recipient has received.

Likely Respondents: Health care providers that apply to receive, or have applied to receive, PRF, ARPA-R, CAF, or UIP payments, and attested to the associated Terms and Conditions.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Attestation Portal | 130,000 | 1 | 130,000 | 0.25 | 32,500
Application Portal | 130,000 | 1 | 130,000 | 1.00 | 130,000
CAF Application | 15,000 | 1 | 15,000 | 1.00 | 15,000
UIP Application | 280,000 | 1 | 280,000 | 5.60 | 1,568,000
Total | 555,000 |  | 555,000 |  | 1,745,500

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-18018 Filed 8-20-21; 8:45 am]

BILLING CODE 4165-15-P